DEPARTMENT OF ENERGY

Federal Energy Regulatory Commission

Combined Notice of Filings #1

Take notice that the Commission received the following exempt wholesale generator filings:

Docket Numbers: EG26-124-000.

Applicants: Cape Generating Station 3 LLC.

Description: Cape Generating Station 3 LLC submits Notice of Self-Certification of Exempt Wholesale Generator Status.

Filed Date: 1/8/26.

Accession Number: 20260108-5108.

Comment Date: 5 p.m. ET 1/29/26.

Docket Numbers: EG26-125-000.

Applicants: Cape Generating Station 5 LLC.

Description: Cape Generating Station 5 LLC submits Notice of Self-Certification of Exempt Wholesale Generator Status.

Filed Date: 1/8/26.

Accession Number: 20260108-5109.

Comment Date: 5 p.m. ET 1/29/26.

Take notice that the Commission received the following electric rate filings:

Docket Numbers: ER23-921-005; ER10-1328-008; ER10-1331-008; ER10-1332-008; ER10-1427-019; ER10-2522-009; ER10-2567-009; ER19-529-026; ER19-1074-026; ER19-1075-026; ER19-2684-006; ER22-192-016; ER22-1019-006; ER22-2042-006; ER23-1939-005; ER24-957-004; ER24-1449-005; ER24-2467-006; ER25-567-003.

Applicants: BR Pacific Hydro Power LLC, Spanish Peaks Solar LLC, Goose Prairie Solar LLC, Franklin Solar LLC, Pike Solar LLC, Jackpot Holdings, LLC, Powell River Energy Inc., Evolugen Trading and Marketing LP, Palmer Solar, LLC, Brookfield Renewable Energy Marketing US LLC, Brookfield Energy Marketing Inc., Brookfield Renewable Trading and Marketing LP, Kit Carson Windpower, LLC, Top of the World Wind Energy, LLC, Brookfield Energy Marketing LP, Three Buttes Windpower, LLC, Silver Sage Windpower, LLC, Happy Jack Windpower, LLC, Black Mesa Energy, LLC.

Description: Triennial Market Power Analysis for Northwest Region of Black Mesa Energy, LLC, et al.

Filed Date: 12/31/25.

Accession Number: 20251231-5502.

Comment Date: 5 p.m. ET 3/2/26.

Docket Numbers: ER26-129-001.

Applicants: NorthWestern Colstrip 370Pu LLC.

Description: Tariff Amendment: Baseline Cost Based Rate Tariff to be effective 1/1/2026.

Filed Date: 1/7/26.

Accession Number: 20260107-5173.

Comment Date: 5 p.m. ET 1/28/26.

Docket Numbers: ER26-411-001.

Applicants: NorthWestern Colstrip 370Pu LLC.

Description: Tariff Amendment: Master PPA and Confirmation with Mercuria Energy America to be effective 1/1/2026.

Filed Date: 1/8/26.

Accession Number: 20260108-5053.

Comment Date: 5 p.m. ET 1/29/26.

Docket Numbers: ER26-629-000.

Applicants: Cartwright Solar II LLC.

Description: Amendment to 12/01/2025 Cartwright Solar II LLC tariff filing.

Filed Date: 1/7/26.

Accession Number: 20260107-5162.

Comment Date: 5 p.m. ET 1/20/26.

Docket Numbers: ER26-969-000.

Applicants: Southwest Power Pool, Inc.

Description: § 205(d) Rate Filing: 3026R2 Steele Flats Wind I GIA to be effective 12/11/2025.

Filed Date: 1/8/26.

Accession Number: 20260108-5001.

Comment Date: 5 p.m. ET 1/29/26.

Docket Numbers: ER26-970-000.

Applicants: Midcontinent Independent System Operator, Inc., Michigan Electric Transmission Company, LLC.

Description: § 205(d) Rate Filing: Michigan Electric Transmission Company, LLC submits tariff filing per 35.13(a)(2)(iii: 2026-01-08_SA 4650 METC-Consumers Energy E&P (J2611) to be effective 12/18/2025.

Filed Date: 1/8/26.

Accession Number: 20260108-5030.

Comment Date: 5 p.m. ET 1/29/26.

Docket Numbers: ER26-971-000.

Applicants: Midcontinent Independent System Operator, Inc., Ameren Illinois Company.

Description: § 205(d) Rate Filing: Ameren Illinois Company submits tariff filing per 35.13(a)(2)(iii: 2026-01-08_SA 4653 Ameren Illinois-IMEA-Bethany WCA to be effective 3/10/2026.

Filed Date: 1/8/26.

Accession Number: 20260108-5031.

Comment Date: 5 p.m. ET 1/29/26.

Docket Numbers: ER26-972-000.

Applicants: Midcontinent Independent System Operator, Inc.

Description: § 205(d) Rate Filing: 2026-01-08_SA 4647 ITC Midwest-Interstate Power and Light GIA (E0015) to be effective 12/22/2025.

Filed Date: 1/8/26.

Accession Number: 20260108-5042.

Comment Date: 5 p.m. ET 1/29/26.

Docket Numbers: ER26-973-000.

Applicants: Midcontinent Independent System Operator, Inc.

Description: § 205(d) Rate Filing: 2026-01-08_SA 4648 ITC Midwest-Interstate Power and Light JTIQ CA (E0015) to be effective 12/23/2025.

Filed Date: 1/8/26.

Accession Number: 20260108-5046.

Comment Date: 5 p.m. ET 1/29/26.

Docket Numbers: ER26-975-000.

Applicants: Solar PV Development NM 18 II LLC.

Description: Initial rate filing: Filing of Shared Facilities Agreement and Request for Waivers to be effective 1/9/2026.

Filed Date: 1/8/26.

Accession Number: 20260108-5059.

Comment Date: 5 p.m. ET 1/29/26.

Docket Numbers: ER26-976-000.

Applicants: PacifiCorp.

Description: § 205(d) Rate Filing: Constellation FKA Exelon NITSA (OR DA) SA 943 Rev 8 to be effective 1/1/2026.

Filed Date: 1/8/26.

Accession Number: 20260108-5068.

Comment Date: 5 p.m. ET 1/29/26.

Docket Numbers: ER26-977-000.

Applicants: AEP Texas Inc.

Description: § 205(d) Rate Filing: AEPTX-Blue Sky Solar Second Amended Interconnection Agreement to be effective 12/11/2025.

Filed Date: 1/8/26.

Accession Number: 20260108-5088.

Comment Date: 5 p.m. ET 1/29/26.

Docket Numbers: ER26-978-000.

Applicants: New York Independent System Operator, Inc., Consolidated Edison Company of New York, Inc.

Description: § 205(d) Rate Filing: New York Independent System Operator, Inc. submits tariff filing per 35.13(a)(2)(iii: NYISO-Con Edison Joint 205: Standard IA NYC Energy Battery Storage SA2935 (CEII) to be effective 12/23/2025.

Filed Date: 1/8/26.

Accession Number: 20260108-5094.

Comment Date: 5 p.m. ET 1/29/26.

Docket Numbers: ER26-979-000.

Applicants: PJM Interconnection, L.L.C.

Description: § 205(d) Rate Filing: Amendment to ISA, Service Agreement No. 5846; Queue No. AB2-133 to be effective 3/10/2026.

Filed Date: 1/8/26.

Accession Number: 20260108-5129.

Comment Date: 5 p.m. ET 1/29/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 8, 2026.
Carlos D. Clay,
Deputy Secretary.

[FR Doc. 2026-00472 Filed 1-12-26; 8:45 am]

BILLING CODE 6717-01-P